DEPARTMENT OF ENERGY

Federal Energy Regulatory Commission

[Project Nos., 14590-000; 14611-000]

Pike Island Energy, LLC,

Bedford Energy Associates, LLC; Notice of Competing Preliminary Permit Applications Accepted for Filing and Soliciting Comments, Motions To Intervene, and Competing Applications

On February 24, 2014, Pike Island Energy, LLC and on March 26, 2014, Bedford Energy Associates, LLC filed preliminary permit applications, pursuant to section 4(f) of the Federal Power Act, proposing to study the feasibility of the Pike Island Hydroelectric Project (Pike Island Project or project) to be located at the U.S. Army Corps of Engineers' (Corps) Pike Island Lock and Dam on the Ohio River, near Wheeling, West Virginia, and Yorkville, Ohio. The sole purpose of a preliminary permit, if issued, is to grant the permit holder priority to file a license application during the permit term. A preliminary permit does not authorize the permit holder to perform any land-disturbing activities or otherwise enter upon lands or waters owned by others without the owners' express permission.

Pike Island Energy, LLC's proposed project would be located at existing overflow weir and west abutment of the existing Pike Island Lock and Dam and consist of the following: (1) A new 225-foot-wide by 50-foot-long concrete intake containing trash racks, sluice gates, and intake gates; (2) a new160-foot-wide by 140-foot-long concrete powerhouse containing two Kaplan pit turbines rated at 15 megawatts (MW) each and one Kaplan pit turbine rated at 10 MW for a total 40 MW capacity; (3) a 200-foot-wide by 500-foot-long tailrace channel; (4) a new substation to be located near the west abutment; (5) a 7,800-foot-long, 138-kilovolt three phase overhead transmission line connecting the project's substation with an existing substation in Tiltonsville, OH; and (6) appurtenant facilities. The estimated annual generation of Pike Island Energy, LLC's project would be 200 gigawatt-hours.

Applicant Contact: A. W. Skelly, Managing Member; Pike Island Energy, LLC; 1 Longwood Blvd., Mt. Orab, OH 45154-8731; email: pikeislandenergy@gmail.com; phone: (513) 375-9242.

Bedford Energy Associates, LLC's proposed project would be located at existing overflow weir and west abutment of the existing Pike Island Lock and Dam and consist of the following: (1) A new 265-foot-wide by 50-foot-long concrete intake containing trash racks, sluice gates, and intake gates; (2) a new 265-foot-wide by 128-foot-long concrete powerhouse containing eight Kaplan pit turbines rated at 6 megawatts (MW) each for a total of 48 MW capacity; (3) a 300-foot-long tailrace channel; (4) a new substation to be located at the west abutment; (5) a 7,800-foot-long, 138-kilovolt three phase overhead transmission line connecting the project's substation with an existing substation in Tiltonsville, Ohio; and (6) appurtenant facilities. The estimated annual generation of Bedford Energy Associates, LLC's project would be 250 gigawatt-hours.

Applicant Contact: Eugene J. Garceau; 214 North Amherst Road; Bedford, New Hampshire 03110; phone: (603) 474-5731.

FERC Contact: Sergiu Serban; sergiu.serban@ferc.gov; phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14590-000, or P-15611-000.

More information about this project, including a copy of the application, can be viewed or printed on the “eLibrary” link of the Commission's Web site at http://www.ferc.gov/docs-filing/elibrary.asp. Enter the docket number (P-14590-000, or P-15611-000) in the docket number field to access the document. For assistance, contact FERC Online Support.

Dated: May 16, 2014.
Kimberly D. Bose,
Secretary.

[FR Doc. 2014-11866 Filed 5-21-14; 8:45 am]

BILLING CODE 6717-01-P